DEPARTMENT OF HOMELAND SECURITY

Coast Guard

33 CFR Part 117

[USCG-2008-1028]

Drawbridge Operation Regulations; Connecticut River, Old Lyme, CT, Maintenance

AGENCY: Coast Guard, DHS.

ACTION: Notice of temporary deviation from regulations.

SUMMARY: The Commander, First Coast Guard District, has issued a temporary deviation from the regulations governing the operation of the Amtrak Railroad Bridge, across the Connecticut River, mile 3.4, at Old Lyme, Connecticut. Under this temporary deviation the bridge may remain in the closed position for nine days in December and twelve days in January to facilitate required bridge maintenance.

DATES: This deviation is effective from December 5, 2008 through January 26, 2009.

ADDRESSES: Documents indicated in this preamble as being available in the docket are part of docket USCG-2008-1028 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts, 02110, between 7 a.m. and 3 p.m., Monday through Friday, except Federal holidays.

FOR FURTHER INFORMATION CONTACT: Judy Leung-Yee, Project Officer, First Coast Guard District, at (212) 668-7165.

SUPPLEMENTARY INFORMATION: The Amtrak Railroad Bridge, across the Connecticut River, mile 3.4, at Old Lyme, Connecticut, has a vertical clearance in the closed position of 19 feet at mean high water and 22 feet at mean low water. The existing regulations are listed at 33 CFR 117.205.

The owner of the bridge, National Railroad Passenger Corporation (Amtrak), requested a temporary deviation to facilitate scheduled mechanical maintenance, tread and track plate replacement, at the bridge.

Under this temporary deviation the bridge may remain in the closed position as follows:

From 6 a.m. on December 5, 2008 through 6 a.m. on December 8, 2008.

From 6 a.m. on December 12, 2008 through 6 a.m. on December 15, 2008.

From 6 a.m. on December 19, 2008 through 6 a.m. on December 22, 2008.

From 6 a.m. on January 2, 2009 through 6 a.m. on January 5, 2009.

From 6 a.m. on January 9, 2009 through 6 a.m. on January 12, 2009.

From 6 a.m. on January 16, 2009 through 6 a.m. on January 19, 2009.

From 6 a.m. on January 23, 2009 through 6 a.m. on January 26, 2009.

Vessels that can pass under the draw without a bridge opening may do so at all times.

In accordance with 33 CFR 117.35(e), the bridge must return to its regular operating schedule immediately at the end of the designated time period. This deviation from the operating regulations is authorized under 33 CFR 117.35.

Dated: November 10, 2008.
Gary Kassof,
Bridge Program Manager, First Coast Guard District.

[FR Doc. E8-27842 Filed 11-21-08; 8:45 am]

BILLING CODE 4910-15-P